DEPARTMENT OF TRANSPORTATION

Federal Aviation Administration

Agency Information Collection Activities: Requests for Comments; Clearance of Renewed Approval of Information Collection: Alternative Pilot Physical Examination and Education Requirements

AGENCY: Federal Aviation Administration (FAA), DOT.

ACTION: Notice and request for comments.

SUMMARY: In accordance with the Paperwork Reduction Act of 1995, FAA invites public comments about our intention to request the Office of Management and Budget (OMB) approval to establish a new information collection. The Federal Register Notice with a 60-day comment period soliciting comments on the following collection of information was published on December 27, 2016. The information collected is used to verify that pilots in command meet the requirements of the Federal Aviation Administration (FAA) Extension, Safety, and Security Act of 2016 (FESSA). The new information collection is in response to implementation of the medical certification of certain small aircraft pilots section of FESSA. This section of FESSA established a new voluntary program of physical examination and education requirements for certain pilots in command in lieu of those pilots holding a medical certificate.

DATES: Written comments should be submitted by April 14, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION: OMB Control Number: 2120-XXXX.

Title: Alternative Physical Examination and Education Requirements.

Form Numbers: FAA form 8700-2 & 8700-3.

Type of Review: New information collection.

Background: The Federal Aviation Administration (FAA) Extension, Safety, and Security Act of 2016 (Pub. L. 114-190) (FESSA) was enacted on July 15, 2016. Section 2307 of FESSSA, medical certification of certain small aircraft pilots, directed the FAA to “issue or revise regulations to ensure that an individual may operate as pilot in command of a covered aircraft” if the pilot and aircraft meet certain prescribed conditions as outlined in FESSA. Those provisions include requirements for the person to:

• Possess a valid driver's license;

• Have held a medical certificate at any time after July 15, 2006;

• Have not had the most recently held medical certificate revoked, suspended, or withdrawn;

• Have not had the most recent application for airman medical certification completed and denied;

• Have taken a medical education course within the past 24 calendar months;

• Have completed a comprehensive medical examination within the past 48 months;

• Be under the care of a physician for certain medical conditions;

• Have been found eligible for special issuance of a medical certificate for certain specified mental health, neurological, or cardiovascular conditions;

• Consent to a National Driver Register check;

• Fly only certain small aircraft, at a limited altitude and speed, and only within the United States;

• Not fly for compensation or hire.

The FAA notes that the use of section 2307 by any eligible pilot is voluntary. Persons may elect to use these alternative pilot physical examination and education requirements or may continue to operate using any FAA medical certificate.

On January 11, 2017, the FAA published a final rule, Alternative Pilot Physical Examination and Education Requirements, to implement the provisions of section 2307 (RIN 2120-AK96). 82 FR 3149. The FAA recognizes that many persons will choose to use the provisions of section 2307 in lieu of holding a FAA-issued medical certificate. Accordingly, the FAA is providing notice of its intent to establish a new collection of information, Alternative Pilot Physical Examination and Education Requirements (OMB control number 2120-XXXX), to reflect the burden associated with the requirements of section 2307.

In a separate notice, the FAA is providing notice of its intent to reduce the burden associated with the existing information collection, Medical Standards and Certification (OMB control number 2120-0034) by the population anticipated to use the provisions of section 2307.

Respondents: Approximately 453,993 individuals.

Frequency: On occasion.

Estimated Average Burden per Response: 21 minutes.

Estimated Total Annual Burden: 159,000 hours.

Issued in Washington, DC, on March 9, 2017.
Ronda L. Thompson,
FAA Information Collection Clearance Officer, Performance, Policy & Records Management Branch, ASP-110.

[FR Doc. 2017-05175 Filed 3-14-17; 8:45 am]

BILLING CODE 4910-13-P